SOCIAL SECURITY ADMINISTRATION

[Docket No. SSA-2020-0042]

Finding Regarding Foreign Social Insurance or Pension System of Estonia

AGENCY: Social Security Administration.

ACTION: Notice of finding regarding foreign social insurance or pension system of Estonia.

SUMMARY: We find that, under the Alien Nonpayment Provision of the Social Security Act (Act), citizens of Estonia may continue to receive Social Security benefits under title II, after 6 consecutive calendar months of absence from the United States. This finding is based on information and data we received about the social insurance system of Estonia and its laws. The Commissioner of Social Security delegated the authority to make this finding to the Deputy Commissioner for Retirement and Disability Policy.

DATES: We will implement this finding on May 16, 2022.

FOR FURTHER INFORMATION CONTACT: Icie K. Allen, Office of Income Security Programs, 2500 Robert Ball Building, 6401 Security Boulevard, Baltimore, MD 21235-6401, (410) 965-8945.

SUPPLEMENTARY INFORMATION: We are prohibited by law from paying benefits under title II of the Act to non-U.S. citizens who remain outside the United States for more than 6 consecutive calendar months, unless they meet an exception provided in the law. We refer to this portion of the law as the Alien Nonpayment Provision (ANP).¹

¹ Section 202(t) of the Act, 42 U.S.C. 402(t).

We recently reviewed the Estonian social insurance system to determine if it meets the criteria for an ANP exception. This is a new finding about the social insurance system of Estonia under the ANP. As a result of this finding, citizens of Estonia may continue receiving benefits under title II of the Act after 6 consecutive calendar months outside the United States.

Background

The ANP, section 202(t) of the Act, prohibits payment of title II benefits to individuals who are not U.S. citizens or nationals for any month after they have been outside the United States for more than 6 consecutive calendar months. Beneficiaries who meet one of the exceptions in the ANP may continue to receive benefits under title II without regard to absence from the United States. Some of these exceptions require that dependents and survivors meet a 5-year U.S. residency requirement for benefits to continue after 6 consecutive calendar months of absence from the United States.²

² Section 202(t)(2), (4), (11) of the Act, 42 U.S.C. 402(t)(2), (4), (11).

To determine whether the social insurance or pension system meets the criteria for an exception under section 202(t) of the Act, we review the foreign country's laws. In addition, we review information and data that we receive from the administrators of the social insurance or pension system of that country. The Commissioner of the Social Security Administration publishes these findings in the Federal Register.

Previously, we determined that the social insurance system of Estonia did not meet the exception under section 202(t)(2) of the Act because, although the social insurance system satisfied the requirements of section 202(t)(2)(A), it did not satisfy the requirements of section 202(t)(2)(B). The system did not meet subparagraph (B) because Estonia restricted the payment of its pension abroad. We published this determination in the Federal Register on February 26, 1993.³

³ 58 FR 11612 (Feb. 26, 1993).

The Estonian government informed us that they passed an amendment, effective January 1, 2018, which allowed payment of all benefits outside of Estonia. In April 2018, we received a completed SSA-142 Report of Social Insurance or Pension System, submitted by the Ministry of Social Affairs of Estonia. We initiated an analysis to reach the finding we describe here.

Finding

Section 202(t)(2) of the Act provides that the prohibition against payment shall not apply to individuals who are citizens of a foreign country that the Commissioner of Social Security finds has a social insurance or pension system that is in effect and of general application in such country, and that:

(A) Pays periodic benefits, or the actuarial equivalent thereof, on account of old age, retirement, or death; and

(B) permits individuals who are U.S. citizens but not citizens of that country and who qualify for benefits to receive those benefits, or the actuarial equivalent thereof, while outside the foreign country regardless of the duration of the absence.

We find that, beginning January 1, 2018, Estonia met all of the required criteria of section 202(t)(2) of the Act because it had a social insurance system that was in effect, was of general application, and met the conditions in subparagraphs (A) and (B).

Our finding that the exception under section 202(t)(2) applies to citizens of Estonia is subject to section 202(t)(11) of the Act. Section 202(t)(11) requires that dependent and survivor title II beneficiaries must also have resided in the United States for a total period of 5 years or more while in a qualifying relationship with the individual on whose earnings the benefits are based.

(Catalog of Federal Domestic Assistance Program Nos. 96.001, Social Security—Disability Insurance; 96.002, Social Security—Retirement Insurance; and 96.004, Social Security—Survivors Insurance)

The Acting Commissioner of Social Security, Kilolo Kijakazi, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2022-10440 Filed 5-13-22; 8:45 am]

BILLING CODE 4191-02-P